DEPARTMENT OF STATE

[Public Notice 8358]

U.S. Department of State Advisory Committee on Private International Law (ACPIL): Public Meeting of the Study Group on Family Law

The Office of the Assistant Legal Adviser for Private International Law, Department of State, hereby gives notice of a public meeting of the Study Group on Family Law to discuss Part V of a questionnaire on private international law issues surrounding the status of children, including issues arising from international surrogacy arrangements. The questionnaire, which was prepared by the Permanent Bureau of the Hague Conference on Private International Law, is available at http://www.hcch.net/upload/wop/gap2013pd03_en.doc. The purpose of the public meeting is limited to obtaining comments on Part V of that questionnaire, which seeks views on possible future work in the areas covered by the questionnaire. This is not a meeting of the full Advisory Committee.

Time and Place: The meeting will take place on Friday, July 12, 2013, at 9:00 a.m. EDT and is scheduled to last until no later than 1:00 p.m. EDT. The meeting will take place in Room 6421 of the Department's Harry S Truman Building, 2201 C Street NW., Washington, DC 20520. Participants should plan to arrive by 8:30 a.m. for visitor screening. If you are unable to attend the public meeting and would like to participate from a remote location, teleconferencing will be available.

Public Participation: This meeting is open to the public, subject to the capacity of the meeting room. Please provide your full name and contact information if you are planning on attending in person. Access to the building is strictly controlled. For pre-clearance purposes, those planning to attend should email pil@state.gov providing full name, address, date of birth, citizenship, driver's license or passport number, and email address. This will greatly facilitate entry into the building. Participants will be met inside the diplomatic entrance at C Street and, once badges are obtained, escorted to the meeting room. A member of the public needing reasonable accommodation should email pil@state.gov not later than July 1, 2013. Requests made after that date will be considered, but might not be able to be fulfilled. If you would like to participate by telephone, please email pil@state.gov to obtain the call-in number and other information.

Data from the public is requested pursuant to Pub.L. 99-399 (Omnibus Diplomatic Security and Antiterrorism Act of 1986), as amended; Pub.L. 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

Dated: June 11, 2013.
Michael S. Coffee.
Attorney-Adviser. Office of Private International Law. Office of the Legal Adviser. Department of State.

[FR Doc. 2013-14670 Filed 6-18-13; 8:45 am]

BILLING CODE 4710-08-P